DEPARTMENT OF ENERGY

Federal Energy Regulatory Commission

[Project No. 14460-000]

New England Hydropower Company, LLC; Notice of Preliminary Permit Application Accepted for Filing and Soliciting Comments, Motions To Intervene, and Competing Applications

On October 15, 2012, New England Hydropower Company, LLC filed an application for a preliminary permit, pursuant to section 4(f) of the Federal Power Act (FPA), proposing to study the feasibility of the Hemlock Gorge Spillway Dike Project to be located on the Charles River, in the City of Newton, in Middlesex County, Massachusetts. The sole purpose of a preliminary permit, if issued, is to grant the permit holder priority to file a license application during the permit term. A preliminary permit does not authorize the permit holder to perform any land-disturbing activities or otherwise enter upon lands or waters owned by others without the owners' express permission.

The proposed project would consist of: (1) The existing 31-foot-high, 69-foot-long Hemlock Gorge Spillway Dike with an 8-foot-long stop-log slot; (2) an existing 31-foot-long, 42-inch-diameter low level penstock; (3) an existing 0.13 acre impoundment with a normal maximum water surface elevation of 66.3 feet National Geodetic Vertical Datum; (4) a proposed 6-foot-high, 8-foot-wide head box structure equipped with a 15-foot-high, 8.5-foot-wide trashrack with 4-inch bar spacing, and a 5.9-foot-high, 7.9-foot-wide sluice gate; (5) a proposed 8-foot-long, 8-foot-wide powerhouse equipped with a 36-foot-long, 8-foot-wide Archimedes screw generator unit with an installed capacity of 30 kilowatts; (6) an existing 90-foot-long, 8-foot-wide, 4-foot-deep tailrace; and (7) a proposed 35 kilovolt, 170-foot-long transmission line connected to the NSTAR regional grid. The project would have an estimated average annual generation of 211 megawatt-hours.

Applicant Contact: Carol Wasserman, New England Hydropower Company, LLC, P.O. Box 5524, Beverly Farms, Massachusetts 01915; (978) 922-5824.

FERC Contact: Tom Dean; (202) 502-6041 or thomas.dean@ferc.gov.

Deadline for filing comments, motions to intervene, competing applications (without notices of intent), or notices of intent to file competing applications: 60 days from the issuance date of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14460) in the docket number field to access the document. For assistance, contact FERC Online Support.

Dated: October 25, 2012.
Kimberly D. Bose,
Secretary.

[FR Doc. 2012-27018 Filed 11-5-12; 8:45 am]

BILLING CODE 6717-01-P